DEPARTMENT OF ENERGY

Federal Energy Regulatory Commission

Notice of Application for Shoreline Management Plan and Soliciting Comments, Motions To Intervene, and Protests

January 16, 2007.

Take notice that the following application has been filed with the Commission and is available for public inspection:

a. Application Type: Shoreline Management Plan.

b. Project No: 2503-110.

c. Date Filed: December 29, 2006.

d. Applicant: Duke Energy Carolinas, LLC.

e. Name of Project: Keowee-Toxaway Project.

f. Location: Lake Keowee is located in Pickens and Oconee County, South Carolina. This project does not occupy any tribal or Federal lands.

g. Filed Pursuant to: Federal Power Act, 16 U.S.C. 791 (a) 825(r) and 799 and 801.

h. Applicant Contact: Mr. Joe Hall, Manager Lake Service; Duke Energy Carolinas, LLC; P.O. Box 1006; Charlotte, NC; 28201-1006; 704-382-8576.

i. FERC Contact: Any questions on this notice should be addressed to Jon Cofrancesco at (202) 502-8951 or by e-mail: Jon.Cofrancesco@ferc.gov.

j. Deadline for filing comments and or motions: February 16, 2007.

All documents (original and eight copies) should be filed with: Ms. Magalie R. Salas, Secretary, Federal Energy Regulatory Commission, 888 First Street, NE., Washington DC 20426. Please include the project number (P-2503-110) on any comments or motions filed. Comments, protests, and interventions may be filed electronically via the Internet in lieu of paper. See, 18 CFR 385.2001(a)(1)(iii) and the instructions on the Commission's Web site under the “e-Filing” link. The Commission strongly encourages e-filings.

k. Description of Application: Duke Energy Carolinas, LLC (Duke), licensee for the Keowee-Toxaway Hydroelectric Project, has filed a proposed comprehensive shoreline management plan for Lake Keowee, one of two reservoirs of the Keowee-Toxaway Project. Duke developed the plan to address increased interest in residential development along the reservoir shoreline, including increased requests for multi-slip marina facilities. The proposed plan includes provisions for land use classifications, lake use restrictions, permitting programs, shoreline stabilization, and shoreline management guidelines.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the application. A copy of the application may be obtained by agencies directly from the Applicant. If an agency does not file comments within the time specified for filing comments, it will be presumed to have no comments. One copy of an agency's comments must also be sent to the Applicant's representatives.

Magalie R. Salas,
Secretary.

[FR Doc. E7-782 Filed 1-19-07; 8:45 am]

BILLING CODE 6717-01-P